DEPARTMENT OF HOMELAND SECURITY

Federal Emergency Management Agency

44 CFR Part 64

[Docket ID FEMA- 2015-0001; Internal Agency Docket No. FEMA-8387]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: The effective date of each community's scheduled suspension is the third date (“Susp.”) listed in the third column of the following tables.

FOR FURTHER INFORMATION CONTACT: If you want to determine whether a particular community was suspended on the suspension date or for further information, contact Bret Gates, Federal Insurance and Mitigation Administration, Federal Emergency Management Agency, 500 C Street SW., Washington, DC 20472, (202) 646-4133.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Maine:
Alna, Town of, Lincoln County | 230083 | May 6, 2004, Emerg; March 1, 2005, Reg; July 16, 2015, Susp. | July 16, 2015 | July 16, 2015.
Arrowsic, Town of, Sagadahoc County | 230208 | October 19, 1979, Emerg; May 15, 1991, Reg; July 16, 2015, Susp. | *......do | do
Bar Island, Lincoln County | 230916 | April 4, 1979, Emerg; April 30, 1984, Reg; July 16, 2015, Susp. | ......do | do
Bath, City of, Sagadahoc County | 230118 | March 27, 1975, Emerg; January 17, 1986, Reg; July 16, 2015, Susp. | ......do | do
Boothbay, Town of, Lincoln County | 230212 | September 8, 1975, Emerg; June 3, 1986, Reg; July 16, 2015, Susp. | ......do | do
Boothbay Harbor, Town of, Lincoln County | 230213 | January 28, 1976, Emerg; June 17, 1986, Reg; July 16, 2015, Susp. | ......do | do
Bowdoin, Town of, Sagadahoc County | 230913 | June 5, 2008, Emerg; September 1, 2008, Reg; July 16, 2015, Susp. | ......do | do
Bowdoinham, Town of, Sagadahoc County | 230119 | April 16, 1981, Emerg; May 19, 1987, Reg; July 16, 2015, Susp. | ......do | do
Bremen, Town of, Lincoln County | 230214 | February 19, 1976, Emerg; February 4, 1987, Reg; July 16, 2015, Susp. | ......do | do
Bristol, Town of, Lincoln County | 230215 | July 15, 1975, Emerg; June 19, 1989, Reg; July 16, 2015, Susp. | ......do | do
Damariscotta, Town of, Lincoln County | 230216 | February 4, 1976, Emerg; September 30, 1988, Reg; July 16, 2015, Susp. | ......do | do
Dresden, Town of, Lincoln County | 230084 | March 28, 1978, Emerg; May 19, 1987, Reg; July 16, 2015, Susp. | ......do | do
Edgecomb, Town of, Lincoln County | 230217 | August 5, 1997, Emerg; October 1, 2002, Reg; July 16, 2015, Susp. | ......do | do
Georgetown, Town of, Sagadahoc County | 230209 | April 11, 1978, Emerg; May 17, 1988, Reg; July 16, 2015, Susp. | ......do | do
Haddock Island, Lincoln County | 230918 | April 4, 1979, Emerg; April 30, 1984, Reg; July 16, 2015, Susp. | ......do | do
Hibberts Gore, Township of, Lincoln County | 230712 | June 24, 1975, Emerg; April 30, 1984, Reg; July 16, 2015, Susp. | ......do | do
Hungry Island, Lincoln County | 230917 | April 4, 1979, Emerg; April 30, 1984, Reg; July 16, 2015, Susp. | ......do | do
Indian Island, Lincoln County | 230919 | April 4, 1979, Emerg; April 30, 1984, Reg; July 16, 2015, Susp. | ......do | do
Jefferson, Town of, Lincoln County | 230085 | July 2, 1975, Emerg; October 18, 1988, Reg; July 16, 2015, Susp. | ......do | do
Jones Garden Island, Lincoln County | 230925 | April 4, 1979, Emerg; April 30, 1984, Reg; July 16, 2015, Susp. | ......do | do
Killick Stone Island, Lincoln County | 230927 | April 4, 1979, Emerg; April 30, 1984, Reg; July 16, 2015, Susp. | ......do | do
Louds Island, Lincoln County | 230915 | April 4, 1979, Emerg; April 30, 1984, Reg; July 16, 2015, Susp. | ......do | do
Marsh Island, Lincoln County | 230921 | April 4, 1979, Emerg; April 30, 1984, Reg; July 16, 2015, Susp. | ......do | do
Monhegan Plantation, Lincoln County | 230511 | April 25, 1975, Emerg; April 30, 1984, Reg; July 16, 2015, Susp. | ......do | do
Newcastle, Town of, Lincoln County | 230218 | May 18, 1999, Emerg; April 1, 2003, Reg; July 16, 2015, Susp. | ......do | do
Nobleboro, Town of, Lincoln County | 230219 | May 13, 1976, Emerg; November 15, 1989, Reg; July 16, 2015, Susp. | ......do | do
Perkins, Township of, Sagadahoc County | 230631 | April 25, 1975, Emerg; April 30, 1984, Reg; July 16, 2015, Susp. | ......do | do
Phippsburg, Town of, Sagadahoc County | 230120 | July 29, 1975, Emerg; August 5, 1986, Reg; July 16, 2015, Susp. | ......do | do
Polins Ledges Island, Lincoln County | 230929 | April 4, 1979, Emerg; April 30, 1984, Reg; July 16, 2015, Susp. | ......do | do
Richmond, Town of, Sagadahoc County | 230121 | July 11, 1975, Emerg; June 4, 1990, Reg; July 16, 2015, Susp. | ......do | do
Ross Island, Lincoln County | 230922 | April 4, 1979, Emerg; April 30, 1984, Reg; July 16, 2015, Susp. | ......do | do
Somerville, Town of, Lincoln County | 230512 | April 25, 1975, Emerg; April 3, 1987, Reg; July 16, 2015, Susp. | ......do | do
South Bristol, Town of, Lincoln County | 230220 | August 12, 1975, Emerg; July 16, 1990, Reg; July 16, 2015, Susp. | ......do | do
Southport, Town of, Lincoln County | 230221 | October 23, 1975, Emerg; May 17, 1988, Reg; July 16, 2015, Susp. | ......do | do
Thief Island, Lincoln County | 230920 | April 4, 1979, Emerg; April 30, 1984, Reg; July 16, 2015, Susp. | ......do | do
Thrumcap Island, Lincoln County | 230928 | April 4, 1979, Emerg; April 30, 1984, Reg; July 16, 2015, Susp. | ......do | do
Topsham, Town of, Sagadahoc County | 230122 | May 30, 1975, Emerg; October 16, 1987, Reg; July 16, 2015, Susp. | ......do | do
Waldoboro, Town of, Lincoln County | 230086 | April 24, 1975, Emerg; April 3, 1985, Reg; July 16, 2015, Susp. | ......do | do
Webber Dry Ledge Island, Lincoln County | 230930 | April 4, 1979, Emerg; April 30, 1984, Reg; July 16, 2015, Susp. | ......do | do
West Bath, Town of, Sagadahoc County | 230211 | June 14, 1976, Emerg; August 17, 1981, Reg; July 16, 2015, Susp. | ......do | do
Western Egg Rock Island, Lincoln County | 230926 | April 4, 1979, Emerg; April 30, 1984, Reg; July 16, 2015, Susp. | ......do | do
Westport Island, Town of, Lincoln County | 230222 | November 10, 2011, Emerg; September 1, 2013, Reg; July 16, 2015, Susp. | ......do | do
Wiscasset, Town of, Lincoln County | 230223 | N/A, Emerg; November 20, 1991, Reg; July 16, 2015, Susp. | ......do | do
Woolwich, Town of, Sagadahoc County | 230210 | April 19, 1978, Emerg; July 16, 1990, Reg; July 16, 2015, Susp. | ......do | do
Wreck Island, Lincoln County | 230924 | April 4, 1979, Emerg; April 30, 1984, Reg; July 16, 2015, Susp. | ......do | do
Wreck Island Ledge, Lincoln County | 230923 | April 4, 1979, Emerg; April 30, 1984, Reg; July 16, 2015, Susp. | ......do | do
Massachusetts:
Acushnet, Town of, Bristol County | 250048 | April 3, 1981, Emerg; July 19, 1982, Reg; July 16, 2015, Susp. | ......do | do
Attleboro, City of, Bristol County | 250049 | August 16, 1974, Emerg; September 29, 1978, Reg; July 16, 2015, Susp. | ......do | do
Berkeley, Town of, Bristol County | 250050 | February 19, 1974, Emerg; July 3, 1978, Reg; July 16, 2015, Susp. | ......do | do
Bridgewater, Town of, Plymouth County | 250260 | November 28, 1975, Emerg; May 17, 1982, Reg; July 16, 2015, Susp. | ......do | do
Dighton, Town of, Bristol County | 250052 | March 9, 1973, Emerg; June 18, 1980, Reg; July 16, 2015, Susp. | ......do | do
East Bridgewater, Town of, Plymouth County | 250264 | July 23, 1975, Emerg; July 2, 1981, Reg; July 16, 2015, Susp. | ......do | do
Foxborough, Town of, Norfolk County | 250239 | June 20, 1975, Emerg; December 4, 1979, Reg; July 16, 2015, Susp. | ......do | do
Freetown, Town of, Bristol County | 250056 | August 11, 1975, Emerg; June 18, 1980, Reg; July 16, 2015, Susp. | ......do | do
Halifax, Town of, Plymouth County | 250265 | August 11, 1975, Emerg; July 5, 1982, Reg; July 16, 2015, Susp. | ......do | do
Lakeville, Town of, Plymouth County | 250271 | April 15, 1975, Emerg; June 4, 1980, Reg; July 16, 2015, Susp. | ......do | do
Mansfield, Town of, Bristol County | 250057 | January 28, 1972, Emerg; April 1, 1977, Reg; July 16, 2015, Susp. | ......do | do
Middleborough, Town of, Plymouth County | 250275 | May 28, 1975, Emerg; September 16, 1981, Reg; July 16, 2015, Susp. | ......do | do
North Attleborough, Town of, Bristol County | 250059 | February 10, 1975, Emerg; September 14, 1979, Reg; July 16, 2015, Susp. | ......do | do
Norton, Town of, Bristol County | 250060 | March 20, 1974, Emerg; June 1, 1979, Reg; July 16, 2015, Susp. | ......do | do
Plainville, Town of, Norfolk County | 250249 | October 29, 1974, Emerg; July 2, 1981, Reg; July 16, 2015, Susp. | ......do | do
Raynham, Town of, Bristol County | 250061 | June 23, 1975, Emerg; July 2, 1980, Reg; July 16, 2015, Susp. | ......do | do
Rochester, Town of, Plymouth County | 250280 | September 8, 1975, Emerg; July 5, 1982, Reg; July 16, 2015, Susp. | ......do | do
Seekonk, Town of, Bristol County | 250063 | July 25, 1975, Emerg; September 5, 1979, Reg; July 16, 2015, Susp. | ......do | do
Taunton, City of, Bristol County | 250066 | July 11, 1973, Emerg; June 18, 1980, Reg; July 16, 2015, Susp. | ......do | do
Region III |  | April 25, 1975, Emerg; April 30, 1984, Reg; July 16, 2015, Susp. | ......do | do
Maryland:
Berlin, Town of, Worcester. | 240141 | March 21, 1978, Emerg; September 18, 1986, Reg; July 16, 2015, Susp. | ......do | do
Ocean City, Town of, Worcester County | 245207 | June 30, 1970, Emerg; June 18, 1971, Reg; July 16, 2015, Susp. | ......do | do
Pocomoke City, City of, Worcester County | 240084 | November 27, 1974, Emerg; September 3, 1980, Reg; July 16, 2015, Susp. | ......do | do
Snow Hill, Town of, Worcester County | 240086 | June 5, 1975, Emerg; May 15, 1980, Reg; July 16, 2015, Susp. | ......do | do
Worcester County, Unincorporated Areas. | 240083 | January 29, 1971, Emerg; February 15, 1979, Reg; July 16, 2015, Susp. | ......do | do
Pennsylvania:
Bloss, Township of, Tioga County | 422094 | July 29, 1975, Emerg; March 1, 1987, Reg; July 16, 2015, Susp. | ......do | do
Blossburg, Borough of, Tioga County | 420817 | April 17, 1973, Emerg; July 16, 1980, Reg; July 16, 2015, Susp. | ......do | do
Brookfield, Township of, Tioga County | 421171 | July 29, 1975, Emerg; December 1, 1986, Reg; July 16, 2015, Susp. | ......do | do
Charleston, Township of, Tioga County | 421172 | December 26, 1974, Emerg; December 1, 1986, Reg; July 16, 2015, Susp. | ......do | do
Chatham, Township of, Tioga County | 421173 | July 29, 1975, Emerg; June 1, 1987, Reg; July 16, 2015, Susp. | ......do | do
Clymer, Township of, Tioga County | 421174 | March 13, 1975, Emerg; May 1, 1987, Reg; July 16, 2015, Susp. | ......do | do
Covington, Township of, Tioga County | 421175 | May 16, 1974, Emerg; July 16, 1980, Reg; July 16, 2015, Susp. | ......do | do
Deerfield, Township of, Tioga County | 421176 | February 16, 1984, Emerg; June 1, 1987, Reg; July 16, 2015, Susp. | ......do | do
Delmar, Township of, Tioga County | 421177 | May 2, 1975, Emerg; August 15, 1990, Reg; July 16, 2015, Susp. | ......do | do
Duncan, Township of, Tioga County | 422095 | November 28, 1975, Emerg; March 1, 1987, Reg; July 16, 2015, Susp. | ......do | do
Elk, Township of, Tioga County | 421154 | April 15, 1974, Emerg; May 1, 1987, Reg; July 16, 2015, Susp. | ......do | do
Elkland, Borough of, Tioga County | 420818 | April 18, 1973, Emerg; September 28, 1990, Reg; July 16, 2015, Susp. | ......do | do
Farmington, Township of, Tioga County | 422097 | November 18, 1975, Emerg; December 1, 1986, Reg; July 16, 2015, Susp. | ......do | do
Gaines, Township of, Tioga County | 421005 | January 15, 1974, Emerg; September 1, 1978, Reg; July 16, 2015, Susp. | ......do | do
Hamilton, Township of, Tioga County | 421178 | August 20, 1975, Emerg; December 1, 1986, Reg; July 16, 2015, Susp. | ......do | do
Jackson, Township of, Tioga County | 420820 | July 27, 1973, Emerg; September 1, 1978, Reg; July 16, 2015, Susp. | ......do | do
Knoxville, Borough of, Tioga County | 420819 | August 20, 1975, Emerg; December 1, 1986, Reg; July 16, 2015, Susp. | ......do | do
Lawrence, Township of, Tioga County | 421006 | April 16, 1973, Emerg; September 3, 1980, Reg; July 16, 2015, Susp. | ......do | do
Lawrenceville, Borough of, Tioga County | 420821 | April 4, 1973, Emerg; August 15, 1980, Reg; July 16, 2015, Susp. | ......do | do
Liberty, Borough, Tioga County | 420822 | August 26, 1975, Emerg; March 1, 1987, Reg; July 16, 2015, Susp. | ......do | do
Liberty, Township of, Tioga County | 422098 | August 11, 1975, Emerg; July 1, 1987, Reg; July 16, 2015, Susp. | ......do | do
Mansfield, Borough of, Tioga County | 420823 | March 16, 1973, Emerg; August 24, 1981, Reg; July 16, 2015, Susp. | ......do | do
Middlebury, Township of, Tioga County | 421179 | August 21, 1975, Emerg; July 1, 1987, Reg; July 16, 2015, Susp. | ......do | do
Morris, Township of, Tioga County | 421155 | April 15, 1974, Emerg; September 3, 1980, Reg; July 16, 2015, Susp. | ......do | do
Nelson, Township of, Tioga County | 421181 | June 5, 1975, Emerg; December 1, 1986, Reg; July 16, 2015, Susp. | ......do | do
Osceola, Township of, Tioga County | 421182 | March 18, 1975, Emerg; August 19, 1991, Reg; July 16, 2015, Susp. | ......do | do
Putnam, Township of, Tioga County | 420824 | August 29, 1973, Emerg; July 2, 1980, Reg; July 16, 2015, Susp. | ......do | do
Richmond, Township of, Tioga County | 420825 | August 1, 1973, Emerg; July 2, 1980, Reg; July 16, 2015, Susp. | ......do | do
Roseville, Borough of, Tioga County | 420826 | February 17, 1981, Emerg; August 1, 1987, Reg; July 16, 2015, Susp. | ......do | do
Rutland, Township of, Tioga County | 422099 | March 14, 1975, Emerg; August 1, 1987, Reg; July 16, 2015, Susp. | ......do | do
Shippen, Township of, Tioga County | 422100 | May 23, 1975, Emerg; December 1, 1986, Reg; July 16, 2015, Susp. | ......do | do
Sullivan, Township of, Tioga County | 421183 | December 20, 1974, Emerg; March 1, 1987, Reg; July 16, 2015, Susp. | ......do | do
Tioga, Borough of, Tioga County | 420827 | February 9, 1973, Emerg; May 1, 1988, Reg; July 16, 2015, Susp. | ......do | do
Tioga, Township of, Tioga County | 420828 | April 17, 1973, Emerg; August 15, 1980, Reg; July 16, 2015, Susp. | ......do | do
Union, Township of, Tioga County | 421184 | August 7, 1975, Emerg; February 1, 1987, Reg; July 16, 2015, Susp. | ......do | do
Ward, Township of, Tioga County | 422101 | August 8, 1975, Emerg; July 1, 1987, Reg; July 16, 2015, Susp. | ......do | do
Wellsboro, Borough of, Tioga County | 420829 | December 26, 1973, Emerg; April 15, 1981, Reg; July 16, 2015, Susp. | ......do | do
Westfield, Borough of, Tioga County | 422093 | April 22, 1975, Emerg; March 1, 1987, Reg; July 16, 2015, Susp. | ......do | do
Westfield, Township of, Tioga County | 421185 | March 11, 1975, Emerg; March 1, 1987, Reg; July 16, 2015, Susp. | ......do | do
Virginia:
Hopewell, City of, Independent City. | 510080 | May 27, 1975, Emerg; September 5, 1979, Reg; July 16, 2015, Susp. | ......do | do
Region IV
Florida:
Okeechobee, City of, Okeechobee County | 120178 | July 2, 1975, Emerg; August 26, 1977, Reg; July 16, 2015, Susp. | ......do | do
Okeechobee County, Unincorporated Areas. | 120177 | May 1, 1975, Emerg; February 4, 1981, Reg; July 16, 2015, Susp. | ......do | do
Region IX
California:
Burlingame, City of, San Mateo County | 065019 | March 19, 1971, Emerg; September 16, 1981, Reg; July 16, 2015, Susp. | ......do | do
San Mateo, City of, San Mateo County | 060328 | December 26, 1974, Emerg; March 30, 1981, Reg; July 16, 2015, Susp. | ......do | do
San Mateo County, Unincorporated Areas. | 060311 | August 27, 1975, Emerg; July 5, 1984, Reg; July 16, 2015, Susp. | ......do | do
*......do = Ditto.
Code for reading third column: Emerg.—Emergency; Reg.—Regular; Susp.—Suspension.

Dated: June 25, 2015.
Roy E. Wright,
Deputy Associate Administrator, Federal Insurance and Mitigation Administration, Department of Homeland Security, Federal Emergency Management Agency.

[FR Doc. 2015-17526 Filed 7-16-15; 8:45 am]

BILLING CODE 9110-12-P